NUCLEAR REGULATORY COMMISSION

Biweekly Notice; Applications and Amendments to Facility Operating Licenses Involving No Significant Hazards Consideration; Correction

AGENCY: Nuclear Regulatory Commission.

ACTION: Biweekly notice; correction.

SUMMARY: This document corrects a notice appearing in the Federal Register on September 18, 2003 (68 FR 54747). This action is necessary to correct an erroneous date.

FOR FURTHER INFORMATION CONTACT: Michael T. Lesar, Chief, Rules and Directives Branch, Division of Administrative Services, Office of Administration, U.S. Nuclear Regulatory Commission, Washington, DC 20555-0001, telephone (301) 415-7163, e-mail mtl@nrc.gov.

SUPPLEMENTARY INFORMATION: On page 54748, in the first column, in the fourth complete paragraph, in the first line, the date “October 16, 2003” should read “October 20, 2003.”

Dated at Rockville, Maryland, this 3rd day of October, 2003.
For the Nuclear Regulatory Commission.
Michael T. Lesar,
Chief, Rules and Directives Branch, Division of Administrative Services, Office of Administration.

[FR Doc. 03-25603 Filed 10-8-03; 8:45 am]

BILLING CODE 7590-01-P